DEPARTMENT OF LABOR

Veterans' Employment and Training Service

[SGA #06-05/PY 06]

Solicitation for Grant Applications (SGA); New Grantee Homeless Veterans' Reintegration Program (HVRP) Grants for Program Year (PY) 2006, July 1, 2006 Through June 30, 2007

AGENCY: Veterans' Employment and Training Service (VETS), Labor.

ACTION: Posting of SGA.

SUMMARY: The Veterans' Employment and Training Service is posting availability of funds for the New Grantee Homeless Veterans' Reintegration Program.

FOR FURTHER INFORMATION CONTACT: Cassandra Mitchell, Grants Management Specialist, Procurement Services Center, at (202) 693-4570.

Date Extension: N/A.

DATES: The closing date for receipt of the application is May 22, 2006 at 5 p.m. (eastern time) at the address listed.

Executive Summary (Applicants For Grant Funds Should Read This Notice In Its Entirety): This competition is targeting eligible applicants that have not previously received HVRP or Veterans' Workforce Investment Program (VWIP) Funds. The U.S. Department of Labor (USDOL), Veterans' Employment and Training Service (VETS), announces a grant competition under 38 U.S.C. 2021, as added by section 5 of Public Law 107-95, the Homeless Veterans Comprehensive Assistance Act of 2001 (HVCAA). Section 2021 requires the Secretary of Labor to conduct, directly or through grant or contract, such programs as the Secretary determines appropriate to expedite the reintegration of homeless veterans into the labor force.

Both urban and non-urban areas within the United States and its territories are eligible jurisdictions to receive services under this competition. Urban areas are defined as the metropolitan areas of the 75 U.S. cities largest in population and the metropolitan area of San Juan, Puerto Rico (See Appendix G). Non-urban areas are defined as the geographic areas other than the metropolitan areas of the 75 U.S. cities largest in population and the metropolitan area of San Juan, Puerto Rico. Applicants must identify whether they are applying for an urban or non-urban grant award.

HVRP grants are intended to address two objectives: (1) To provide services to assist in reintegrating homeless veterans into meaningful employment within the labor force, and (2) to stimulate the development of effective service delivery systems that will address the complex problems facing homeless veterans. Successful applicants will design programs that assist eligible veterans by providing job placement services, job training, counseling, supportive services, and other assistance to expedite the reintegration of homeless veterans into the labor force. Successful programs will also be designed to be flexible in addressing the universal as well as the local or regional problems that have had a negative impact on homeless veterans reentering the workforce.

Under this new grantee HVRP solicitation covering Fiscal Year (FY) 2006, VETS anticipates that up to $1,500,000 will be available for grant awards up to a maximum of $300,000 for urban areas and $200,000 for non-urban areas. VETS expects to award approximately six (6) grants. Please be advised that urban area requests exceeding $300,000 and non-urban area requests exceeding $200,000 will be considered non-responsive. This notice contains all of the necessary information and forms to apply for grant funding. The period of performance for these PY 2006 grants will be July 1, 2006 through June 30, 2007. Two (2) optional years of additional funding may be available, depending upon Congressional appropriations, the agency's decision to exercise the optional year(s) of funding, and satisfactory grantee and sub-awardee(s) performance.

I. Funding Opportunity Description

This competition is targeting eligible applicants that have not previously received HVRP or Veterans' Workforce Investment Program (VWIP) Funds. The U.S. Department of Labor (USDOL), Veterans' Employment and Training Service (VETS), announces a grant competition under 38 U.S.C. 2021, as added by section 5 of Public Law 107-95, the Homeless Veterans Comprehensive Assistance Act of 2001 (HVCAA). Section 2021 requires the Secretary of Labor to conduct, directly or through grant or contract, such programs as the Secretary determines appropriate to provide job training, counseling, and placement services (including job readiness, literacy training, and skills training) to expedite the reintegration of homeless veterans into the labor force.

1. Program Concept and Emphasis

HVRP grants are intended to address two objectives: (a) To provide services to assist in reintegrating homeless veterans into meaningful employment within the labor force, and (b) to stimulate the development of effective service delivery systems that will address the complex problems facing homeless veterans.

For this Fiscal Year (FY) 2006 grant solicitation, VETS seeks applicants that will provide services through a case management approach that networks with Federal, State, and local resources for veteran support programs. Successful applicants will have clear strategies and obtainable goals for employment and retention of employment for homeless veterans. Successful applicants will design programs that assist eligible veterans by providing job placement services, job training, counseling, mentoring, supportive services, and other assistance to expedite the reintegration of homeless veterans into the labor force. Successful applicants will also design programs that are flexible in addressing the universal as well as the local or regional problems that have had a negative impact on homeless veterans reentering the workforce. The HVRP in PY 2006 will seek to continue to strengthen development of effective service delivery systems, to provide comprehensive services through a case management approach that addresses complex problems facing eligible veterans trying to transition into gainful employment, and to improve strategies for employment and retention in employment.

2. Project Awareness Program Information and Orientation Activities

In order to promote networking between the HVRP-funded program and local service providers (and thereby eliminate gaps or duplication in services and enhance the provision of assistance to participants), the grantee and sub-awardee(s) must provide project orientation workshops and program awareness activities that it determines are the most feasible for the types of providers listed below. Grantees and sub-awardee(s) are encouraged to propose strategies for incorporating small faith-based and community organizations (defined as organizations with social services budgets of $500,000 or less and ten (10) or fewer full-time employees) into their outreach plans. Project orientation workshops conducted by grantees and sub-awardee(s) have been an effective means of sharing information and informing the community of the availability of other services; they are encouraged but not mandatory. Rather, grantees and sub-awardee(s) will have the flexibility to attend service provider meetings, seminars, and conferences, to outstation staff, and to develop individual service contracts as well as to involve other agencies in program planning.

The grantee and sub-awardee(s) will be responsible for providing project awareness, program information, and orientation activities to the following:

A. Direct providers of services to homeless veterans, including shelter and soup kitchen operators, to make them aware of the services available to homeless veterans to make them job-ready and to aid their placement into jobs.

B. Federal, State, and local agencies such as the Social Security Administration (SSA), Department of Veterans Affairs (DVA), State Workforce Agencies (SWAs) and local One-Stop Career Centers (which integrate Workforce Investment Act (WIA) and other employment and training services), mental health services, and healthcare detoxification facilities: to familiarize them with the nature and needs of homeless veterans.

C. Civic and private sector groups, in particular veterans' service organizations, support groups, job training and employment services, and community-based organizations (including faith-based organizations), to provide information on homeless veterans and their needs.

The grantee and sub-awardee(s) will also be responsible for participating in “Stand Down” events. A “Stand Down” is an event held in a locality, usually for one (1) to three (3) days, where services are provided to homeless veterans along with shelter, meals, clothing, employment services, and medical attention. This type of event is mostly a volunteer effort, which is organized within a community and brings service providers together such as the Department of Veterans Affairs, Disabled Veterans' Outreach Program Specialists (DVOP) and Local Veterans' Employment Representatives (LVER) staff from the State Workforce Agencies, Veteran Service Organizations, military personnel, civic leaders, and a variety of other interested persons, groups, and organizations. Many services are provided on-site with referrals also made for continued assistance after the Stand Down event. These events can often be the catalyst that enables homeless veterans to get back into mainstream society. The Department of Labor has supported replication of these events and many have been held throughout the nation.

In areas where an HVRP is operating, grantees and sub-awardee(s) are expected and encouraged to participate fully and offer their services for all locally planned Stand Down event(s). Toward this end, up to $8,000 of the requested HVRP grant funds may be used to supplement the Stand Down efforts, where funds are not otherwise available, and may be requested and explained in the budget narrative.

3. Scope of Program Design

In addition to the activities described above, the project design must include the following services:

A. Outreach, intake, assessment, peer counseling and mentoring to the degree practical, employment services, and follow-up support services to enhance retention in employment. Program staff providing outreach services should have experience in dealing with, and an understanding of the needs of, homeless veterans. Outreach activities must include and coordinate with the DVOP and LVER staff in the State Workforce Agencies or in the workforce investment systems' One-Stop Career Centers System, Veterans' Workforce Investment Program (VWIP), and the Department of Veterans Affairs.

B. Provision of or referral to employment services such as: Job search workshops, job counseling, assessment of skills, resume writing techniques, interviewing skills, subsidized trial employment (work experience), job development services, job placement into unsubsidized employment, and job placement follow-up services to enhance retention in employment.

C. Provision of or referral to training services such as: Basic skills instruction, remedial education activities, life skills and money management training, on-the-job training, classroom training, vocational training, specialized and/or licensing training programs, and other formal training programs as deemed appropriate to benefit the participant. At least 80% of the enrolled HVRP participants must participate in training activities.

D. Grantees and sub-awardee(s) must perform a preliminary assessment of each participant's eligibility for Department of Veterans Affairs (DVA) service-connected disability, compensation, and/or pension benefits. As appropriate, grantees and sub-awardee(s) will work with the veterans' service organizations or refer the participants to DVA in order to file a claim for compensation or pension. Grantees and sub-awardee(s) will track the progress of claims and report outcomes in individual participant case management records.

E. Coordination with veterans' services programs, including: DVOPs and LVERs in the workforce investment system's One-Stop Career Centers, as well as Veterans' Workforce Investment Programs (VWIPs), Department of Veterans Affairs (DVA) services, including its Health Care for Homeless Veterans, Domiciliary Care, Regional Benefits Assistance Program, and Transitional Housing under Homeless Provider Grant and Per Diem programs.

F. Networking, collaborating, and coordinating efforts with veterans' service organizations such as: The American Legion, Disabled American Veterans, Veterans of Foreign Wars, Vietnam Veterans of America, The American Veterans (AMVETS), or etc. to ensure participants apply for and/or receive other veterans' benefits that they may be eligible for.

G. Referral as necessary to health care, counseling, and rehabilitative services including, but not limited to: Alcohol and drug rehabilitation, therapeutic services, Post Traumatic Stress Disorder (PTSD) services, and mental health services as well as coordination with McKinney-Vento Homeless Assistance Act (MVHAA) programs for health care for the homeless, and health care programs under the Homeless Veterans Comprehensive Assistance Act (HVCAA) of 2001.

H. Referral to housing assistance, as appropriate, provided by: Local shelters, Federal Emergency Management Administration (FEMA) food and shelter programs, transitional housing programs and single room occupancy housing programs funded under MVHAA and HVCAA, and permanent housing programs for disabled homeless persons funded under MVHAA and HVCAA.

4. Results-Oriented Model

No specific model is mandatory, but successful applicants will design a program that is responsive to the needs of the local community and achieves the HVRP objectives. The HVRP objectives are to successfully reintegrate homeless veterans into the workforce and to stimulate the development of effective service delivery systems that will address the complex problems facing homeless veterans. Under the Government Performance and Results Act (GPRA), Congress and the public are looking for program results rather than program processes.

For purposes of assessing performance of grantees selected under this SGA, VETS will focus on two performance measures described below. However, grantees also will be required to report additional performance information, as required in DOL guidance on OMB Common Measures and as described below. All performance outcomes will be reported quarterly using an Internet-based reporting system for HVRP, with access provided to successful grantees after the award process has been completed.

There are two (2) outcome measures with established performance targets for HVRP grants. The first outcome measure is the placement rate with a performance target for grantees and sub-awardee(s) to meet a minimum placement rate of 61.5%. This is determined by dividing the number of participants placed into employment by the total number of HVRP participants. While the percentage of HVRP participants placed into employment is an important outcome, it is also necessary to evaluate and measure the program's longer-term results, through the 90-day and 180-day follow-up periods. The second outcome measure is retention following placement with a performance target for grantees and sub-awardee(s) to meet a minimum rate of retention of 58.5% at 180 days following placement. This is determined by dividing the number of participants retained in employment at 180 days following placement divided by the total number of participants placed into employment. While there is no performance target established for retention at 90 days following placement, grantees are required to collect and report the rate of retention in employment at that point.

In applying the Common Measures, grantees will be required to collect additional information according to the Common Measures definitions but no performance targets for grantees will be established according to those definitions during this period of performance. That is because the baseline information required to establish performance targets does not yet exist. Upon award, grantees will be provided with detailed information regarding the specific information required to be collected and reported. At this point, it is sufficient for grantees to be aware of two requirements in addition to the requirements identified above. First, it will be necessary for grantees to collect and report on the rate of retention in employment at 270 days following placement into employment. Second, at the 180 day and 270 day points of retention in employment following placement, grantees will be required to collect and report the average weekly earnings of those retained in employment. This is calculated by multiplying each participant's hourly wage by the average number of hours per week that the participant was employed during the previous quarter.

The applicant's program should be based on a results-oriented model. The first phase of activity should consist of the level of outreach necessary to introduce the program to eligible homeless veterans. Outreach also includes establishing contact with other agencies that encounter homeless veterans. Once the eligible homeless veterans have been identified, an assessment must be made of each individual's abilities, interests, needs, and barriers to employment. In some cases, participants may require referrals to services such as rehabilitation, drug or alcohol treatment, or a temporary shelter before they can be enrolled into the HVRP program. Once the eligible homeless veteran is stabilized, the assessment must concentrate on the employability of the individual and whether the individual is to be enrolled into the HVRP program.

A determination should be made as to whether the HVRP participant would benefit from pre-employment preparation such as resume writing, job search workshops, related employment counseling, and case management, or possibly an initial entry into the job market through temporary jobs. Additionally, sheltered work environments such as the Department of Veterans Affairs Compensated Work Therapy Program, classroom training, and/or on-the-job training must be evaluated. Such services should be noted in an Individual Employment Plan to facilitate the staff's successful monitoring of the participant's progress. Entry into full-time employment or a specific job-training program should follow, in keeping with the overall objective of HVRP, to bring the participant closer to self-sufficiency. The grantee should provide or arrange for these supportive services that will enable the HVRP participant to successfully perform all the activities specified in the Individual Employment Plan.

Job development, a crucial part of the employability process, usually occurs when there are no competitive job openings that the HVRP participant is qualified to apply for; therefore, a job opportunity with an employer is created, developed, and customized specifically for that HVRP participant. HVRP participants who are ready to enter employment and are in need of intensive case management services for employment purposes are to be referred to the DVOP and LVER staff at a One-Stop Career Center. DVOP and LVER staff are able to provide HVRP participants the following services: Job development, employment services, case management for employment purposes, and career counseling. Most DVOP and LVER staff received training in case management for employment purposes at the National Veterans' Training Institute. All DVOP and LVER staff provide employment-related services to veterans who are most at a disadvantage in the labor market. VETS recommends working hand-in-hand with DVOP/LVER and other One-Stop Career Center staff to achieve economies of resources and to avoid duplication of services. DVOP/LVER staff may also be able to provide grantees and sub-awardee(s) valuable assistance in tracking participants within their State wage record management information system for follow-up purposes at 90 and 180 days after a participant enters employment.

The applicant's program must include tracking of program participants. Participant tracking should begin with the referral to supportive services and training activities and continue at placement into employment and through the 90-day and 180-day follow-up periods after entering employment. It is important that the grantee and sub-awardee(s) maintain contact with veterans after placement to ensure that employment-related problems are addressed. The 90-day and 180-day follow-ups are fundamental to assessing program results. Grantees and sub-awardee(s) need to budget for 90-day and 180-day follow-up activity so that it can be performed for those participants placed at or near the end of the grant performance period. All grantees and sub-awardee(s), prior to the end of the grant performance period, must obligate sufficient funds to ensure that follow-up activities are completed. Such results will be reported in the final technical performance report.

II. Award Information

1. Type of Funding Instrument

One (1) year grant with optional funding for an additional two years.

Note: Selection of an organization as a grantee does not constitute final approval of the grant application as submitted. Before the actual grant is awarded, USDOL may enter into negotiations about such items as program components, staffing, and funding levels, and administrative systems in place to support grant implementation. If the negotiations do not result in a mutually acceptable submission, the Grant Officer reserves the right to terminate the negotiation and decline to fund the application.

2. Funding Levels

The total funding available for this New Grantee HVRP solicitation is up to $1,400,000. It is anticipated that approximately seven (7) awards will be made under this solicitation. Awards are expected to range from a minimum of $75,000 to a maximum of $200,000 for non-urban areas and $300,000 for urban areas. The Department of Labor reserves the right to negotiate the amounts to be awarded under this competition. Please be advised that requests exceeding $200,000 for non-urban areas and $300,000 for urban areas will be considered non-responsive and will not be evaluated. If there are any residual programmatic funds, the Department of Labor reserves the right to select for funding the next highest scoring applicant(s) on the competitive list developed for this SGA up to one (1) year after the initial performance period begins or June 30, 2007.

3. Period of Performance

The period of performance will be for the twelve (12) month period of July 1, 2006 to June 30, 2007, unless modified by the Grant Officer. It is expected that successful applicants will begin program operations under this solicitation on July 1, 2006. All program funds must be obligated by June 30, 2007; a limited amount of funds may be obligated and reserved for follow-up activities and closeout.

4. Optional Year Funding

Should Congress appropriate additional funds for this purpose, VETS may consider up to two (2) additional years of optional funding. The Government does not, however, guarantee optional year funding for any grantee or sub-awardee(s). In deciding whether to exercise any optional year(s) of funding, VETS will consider grantee and sub-awardee(s) performance during the previous period of operations as follows:

A. The grantee and sub-awardee(s) must meet, at minimum, 90% of planned cumulative goals for Federal expenditures, enrollments, placements into employment, and training by the end of the third quarter; and

B. The grantee and sub-awardee(s) must have complied with all terms identified in the Solicitation for Grant Application (SGA), grant award document, and General and Special Grant Provisions; and

C. All program and fiscal reports must have been submitted by the established due dates and the grantee and sub-awardee(s) must verify these reports for accuracy purposes.

III. Eligibility Information

1. Eligible Applicants

In order to be eligible, applicants must not have previously received HVRP or VWIP funds. Applications for funds will be accepted from State and local Workforce Investment Boards, local public agencies, for-profit/commercial entities, and non-profit organizations, including faith-based and community organizations. Applicants must have a familiarity with the area and population to be served and the ability to administer an effective and timely program.

Eligible applicants will generally fall into one of the following categories:

• State and local Workforce Investment Boards (WIBs), established under sections 111 and 117 of the Workforce Investment Act.

• Public agencies, meaning any public agency of a State or of a general purpose political subdivision of a State that has the power to levy taxes and spend funds, as well as general corporate and police powers. (This typically refers to cities and counties.) A State agency may propose in its application to serve one or more of the jurisdictions located in its State. This does not preclude a city or county agency from submitting an application to serve its own jurisdiction.

• For-profit/commercial entities.

• Non-profit organizations (including faith-based and community organizations). If claiming 501(c)(3) status, the Internal Revenue Service statement indicating 501(c)(3) status approval must be submitted.

Note that entities organized under section 501(c)(4) of the Internal Revenue Code that engage in lobbying activities are not eligible to receive funds under this announcement. Section 18 of the Lobbying Disclosure Act of 1995, Public Law 104-65, 109 Stat. 691 (2 U.S.C. 1611) prohibits instituting an award, grant, or loan of federal funds to 501(c)(4) entities that engage in lobbying.

2. Cost Sharing

Cost sharing and matching funds are not required. However, we do encourage grantees and sub-awardee(s) to maximize the resources available to the HVRP program and its participants.

3. Other Eligibility Criteria

A. Both urban and non-urban areas within the United States and its territories are eligible jurisdictions to receive services under this competition. Urban areas are defined as the metropolitan areas of the 75 U.S. cities largest in population and the metropolitan area of San Juan, Puerto Rico (See Appendix G). Non-urban areas are defined as the geographic areas other than the metropolitan areas of the 75 U.S. cities largest in population and the metropolitan area of San Juan, Puerto Rico. Applicants must identify whether they are applying for an urban or non-urban grant award.

B. The proposal must include a participant outreach component that uses DVOP/LVER staff and/or trained outreach staff. Programs must be “employment-focused.” An “employment-focused” program is a program directed toward: (1) Increasing the employability of homeless veterans through training or arranging for the provision of services that will enable them to reintegrate into the labor force and (2) matching homeless veterans with potential employers and/or entrepreneurial opportunities.

C. Applicants are encouraged to utilize, through partnerships or sub-awards, experienced public agencies, private non-profit organizations, private businesses, faith-based and community organizations, and colleges and universities (especially those with traditionally high enrollments of minorities) that have an understanding of unemployment and the barriers to employment unique to homeless veterans, a familiarity with the area to be served, linkages with the One-Stop Career Center(s), and the capability to effectively provide the necessary services.

D. Legal rules pertaining to inherently religious activities by organization that receive Federal Financial Assistance. Neutral, non-religious criteria that neither favor nor disfavor religion will be employed in the selection of grant recipients and must be employed by grantees or in the selection of sub-awardee(s). The government is generally prohibited from providing direct financial assistance for inherently religious activities. These grants may not be used for religious instruction, worship, prayer, proselytizing or their inherently religious activities. In this context, the term direct financial assistance means financial assistance that is provided directly by a government entity or an intermediate organization, as opposed to financial assistance that an organization receives as the result of the genuine and independent private choice of a beneficiary. In other contexts, the term “direct” financial assistance may be used to refer to financial assistance that an organization receives directly from the Federal government (also known as “discretionary” assistance), as opposed to assistance that it receives from a State or local government (also known as “indirect” or “block” grant assistance). The term “direct” has the former meaning throughout this paragraph.

E. To be eligible for enrollment as a participant under this HVRP grant an individual must be homeless and a veteran defined as follows:

• The term “homeless or homeless individual” includes persons who lack a fixed, regular, and adequate nighttime residence. It also includes persons whose primary nighttime residence is either a supervised public or private shelter designed to provide temporary living accommodations; an institution that provides a temporary residence for individuals intended to be institutionalized; or a public or private place not designed for, or ordinarily used as, a regular sleeping accommodation for human beings. [42 U.S.C. 11302 (a)].

• The term “veteran” means a person who served in the active military, naval, or air service, and who was discharged or released under conditions other than dishonorable. [38 U.S.C. 101(2)].

IV. Application and Submission Information

1. Address To Request an Application and Amendments

This SGA, together with its attachments, includes all the information needed to apply. Additional application packages and amendments to this SGA may be obtained from the VETS Web site address at http://www.dol.gov/vets, the Federal Grant Opportunities Web site address at http://www.grants.gov, and from the Federal Register Web site address at http://www.gpoaccess.gov/fr/index.html. The Federal Register may also be obtained from your nearest government office or library. Additional copies of the standard forms can be downloaded from: http://www.whitehouse.gov/omb/grants/grants_forms.html.

All grant applications are to be mailed to: Department of Labor, Procurement Services Center, Attention: Cassandra Mitchell, Reference SGA #06-05, 200 Constitution Avenue NW., Room N-5416, Washington, DC 20210. Phone Number: (202) 693-4570 (this is not a toll-free number).

• Applicants may also apply online at http://www.grants.gov. Applicants submitting proposals online are requested to refrain from mailing a hard copy application as well. It is strongly recommended that applicants using http://www.grants.gov immediately initiate and complete the “Get Started” registration steps at http://www.grants.gov/GetStarted. These steps may take multiple days to complete, and this time should be factored into plans for electronic submission in order to avoid facing unexpected delays that could result in the rejection of an application. If submitting electronically through http://www.grants.gov it would be appreciated if the application submitted is saved as .doc, .pdf, or .txt files.

• Except provided in section IV.3., any application received after the deadline will be considered as non-responsive and will not be evaluated.

2. Content and Form of Application

The application must include the name, address, telephone number, fax number, and e-mail address (if applicable) of a key contact person at the applicant's organization in case questions should arise. To be considered responsive to this solicitation the application must consist of three (3) separate and distinct sections: The Executive Summary, the Technical Proposal, and the Cost Proposal. The information provided in these three (3) sections is essential to demonstrate an understanding of the programmatic and fiscal contents of the grant proposal.

A complete grant application package must not exceed 75 single-sided pages (8½″ x 11″), double-spaced, 12-point font, typed pages (all attachments are included in the 75 page maximum). Applications that contain more than 75 pages total will be considered non-responsive. Major sections and sub-sections of the application should be divided and clearly identified (e.g. with tab dividers), and all pages shall be numbered. To be considered responsive grant applications are to include:

• An original, blue ink-signed, and two (2) copies of the cover letter.

• An original and two (2) copies of the Executive Summary (see below).

• An original and two (2) copies of the Technical Proposal (see below) that includes a completed Technical Performance Goals Form (Appendix D). Also include all attachments with the technical proposal, such as the applicant's information showing outcomes of employment and training programs that it has had in the past three (3) years in terms of enrollments and participants who have entered into employment.

• An original and two (2) copies of the Cost Proposal (see below) that includes an original, blue ink-signed, Application for Federal Assistance, SF-424 (Appendix A), a Budget Narrative, Budget Information Sheet SF-424A (Appendix B), an original, blue ink-signed, Assurances and Certifications Signature Page (Appendix C), a Direct Cost Description for Applicants and Sub-applicants (Appendix E), a completed Survey on Ensuring Equal Opportunity for Applicants (Appendix F), and the applicant's grant specific financial and/or audit statement dated within the last 18 months (does not count towards the 75 page limitation).

A. Section 1—Executive Summary: A one to two page “Executive Summary” reflecting the grantee's and sub-awardee(s) proposed overall strategy, timeline, and outcomes to be achieved in their grant proposal is required. The Executive Summary should include:

• The proposed area to be served through the activities of this grant application.

• The grantee's experience in serving the residents in the proposed service area.

• The proposed projects and activities that will expedite the reintegration of homeless veterans into the workforce.

• A summary of anticipated outcomes, benefits, and value added by the project.

B. Section 2—Technical Proposal consists of a narrative proposal that demonstrates the need for this particular grant program, the services and activities proposed to obtain successful outcomes for the homeless veterans to be served; and the applicant's ability to accomplish the expected outcomes of the proposed project design. All applications must respond to the requirements for the program concept, required activities, and results oriented model set forth in Section I of the SGA.

Required Content: There are program activities that all applications must contain to be found technically acceptable under this SGA. Programs must be “employment-focused” and must be responsive to the rating criteria in Section V(1). The required program activities are: Participant outreach and project awareness activities, pre-enrollment assessments, individual employment plans for each participant, case management, job placement, job retention follow-up (at 90 and 180 days) after individual enters employment, utilization and coordination of employment services through the One-Stop Career Center System, including the DVOP and LVER staff, and with community linkages with other programs that provide support to homeless veterans. All applicants must respond to the requirements for the program concept, required activities and results-oriented model described in Section I. of the SGA.

The following format for the technical proposal is recommended:

Need for the program: The applicant must identify the geographical area to be served and provide an estimate of the number of homeless veterans in the designated geographical area. Include poverty and unemployment rates in the area and identify the disparities in the local community infrastructure that exacerbate the employment barriers faced by the targeted veterans. Include labor market information and job opportunities in the employment fields and industries that are in demand in the geographical area to be served. Applicants are to clearly describe the proposed program awareness and participant outreach strategies.

Approach or strategy to increase employment and job retention: Applicants must be responsive to the Rating Criteria contained in section V(1) and address all of the rating factors as thoroughly as possible in the narrative. The applicant must:

• Describe the specific employment and training services to be provided under this grant and the sequence or flow of such services;

• Indicate the type(s) of training that will be provided under the grant and how it relates to the jobs that are in demand, length of training, training curriculum, and how the training will improve the eligible veterans' employment opportunities within that geographical area;

• Provide a follow-up plan that addresses retention after 90 and 180 days with participants who have entered employment;

• Include the completed Planned Quarterly Technical Performance Goals (and planned expenditures) form listed in Appendix D. If the Planned Quarterly Technical Performance Goals form listed in Appendix D is not submitted, the grant application package will be considered as non-responsive.

Linkages with facilities that serve homeless veterans: Describe program and resource linkages with other facilities that will be involved in identifying potential clients for this program. Applicants are encouraged to submit a list of their local area network of service providers that offer and provide services to benefit HVRP participants. Describe any networks with other related resources and/or other programs that serve homeless veterans. Indicate how the program will be coordinated with any efforts that are conducted by public and private agencies in the community. Indicate how the applicant will coordinate with any continuum of care efforts for the homeless among agencies in the community. If an Memorandum of Understanding (MOU) or other service agreement with service providers exists, copies should be provided.

Linkages with other providers of employment and training services to homeless veterans: Describe the linkages, networks, and relationships the proposed program will have with other providers of services to homeless veterans; include a description of the relationship with other employment and training programs in the One-Stop Career Center System such as Disabled Veterans' Outreach Program (DVOP), the Local Veterans' Employment Representative (LVER) program, and programs under the Workforce Investment Act such as the Veterans' Workforce Investment Program (VWIP); list the type of services that will be provided by each. Note the type of agreement in place, if applicable. Linkages with the workforce investment system are required. Describe any networks with any other resources and/or other programs for homeless veterans. If an MOU or other service agreement with other service providers exists, copies should be provided.

Linkages with other Federal agencies: Describe program and resource linkages with the Department of Housing and Urban Development (HUD), Department of Health and Human Services (HHS), and Department of Veterans Affairs (DVA), to include the Compensated Work Therapy (CWT) and Grant and Per Diem programs. If an MOU or other service agreement with other service providers exists, copies should be provided.

Proposed supportive service strategy for veterans: Describe how supportive service resources for veterans will be obtained and used. If resources are provided by other sources or linkages, such as Federal, State, local, or faith-based and community programs, the applicant must fully explain the use of these resources and how they will be applied. If an MOU or other service agreement with other service providers exists, copies should be provided.

Organizational capability to provide required program activities: The applicant's relevant current and prior experience (within the last three year period) in operating employment and training programs is to be clearly described, if applicable. A summary narrative of program experience and employment and training performance outcomes is required. The applicant must provide information showing outcomes of employment and training programs that it has had in the past three (3) years in terms of enrollments and participants who have entered into employment. An applicant that has operated a HVRP, other homeless employment and training program, or VWIP program must also include the final or most recent cumulative quarterly technical performance report.

Please note that the Department of Labor grant review panel members, who will be reviewing all grant applications submitted as a result of this SGA, do not have access to any reporting information systems during the review process, therefore, if final or most recent cumulative quarterly technical performance reports are not submitted, the grant application may be considered non-responsive.

The applicant must also provide evidence of key staff capability to include resumes, staff biographies, organizational charts, statements of work, and etc. It is preferred that the grantee and sub-awardee(s) be a well established service provider and not in the initial start-up phase or process.

Proposed housing strategy for homeless veterans: Describe how housing resources for eligible homeless veterans will be obtained or accessed. These resources must be from linkages or sources other than the HVRP grant such as HUD, HHS, community housing resources, DVA Grant and Per Diem Program, or other local housing programs.

C. Section 3—The Cost Proposal must contain the following: Applicants can expect that the cost proposal will be reviewed for allocability, allowability, and reasonableness.

(1) Standard Form SF-424, “Application for Federal Assistance” (with the original signed in blue-ink) (Appendix A) must be completed;

The Catalog of Federal Domestic Assistance number for this program is 17.805 and it must be entered on the SF-424, in Block 11.

The organizational unit section of Block 8 of the SF-424 must contain the Dun and Bradstreet Number (DUNS) of the applicant. Beginning October 1, 2003, all applicants for Federal grant funding opportunities are required to include a DUNS number with their application. See OMB Notice of Final Policy Issuance, 68 FR 38402 (June 27, 2003). Applicants' DUNS number is to be entered into Block 8 of SF-424. The DUNS number is a nine-digit identification number that uniquely identifies business entities. There is no charge for obtaining a DUNS number. To obtain a DUNS number call 1-866-705-5711 or access the following Web site: ­ http://www.dunandbradstreet.com/.

Requests for exemption from the DUNS number requirement must be made to the Office of Management and Budget. If no DUNS number is provided then the grant application will be considered non-responsive.

(2) Standard Form SF-424A “Budget Information Sheet” (Appendix B) must be included;

(3) As an attachment to SF-424A, the applicant must provide a detailed cost breakout of each line item on the Budget Information Sheet. Please label this page or pages the “Budget Narrative” and ensure that costs reported on the SF-424A correspond accurately with the Budget Narrative;

The Budget Narrative must include, at a minimum:

• Breakout of all personnel costs by position, title, annual salary rates, and percent of time of each position to be devoted to the proposed project (including sub-grantees) by completing the “Direct Cost Descriptions for Applicants and Sub-Applicants” form (Appendix E);

• Explanation and breakout of extraordinary fringe benefit rates and associated charges (i.e., rates exceeding 35% of salaries and wages);

• Explanation of the purpose and composition of, and methodology used to derive the costs of each of the following: travel, equipment, supplies, sub-awards/contracts, and any other costs. The applicant must include costs of any required travel described in this Solicitation. Planned travel expenditures may not exceed 5% of the total HVRP funds requested. Mileage charges may not exceed 44.5 cents per mile or the current Federal rate;

• All associated costs for obtaining and retaining participant information pertinent to the follow-up survey, at 90 and 180 days after the program performance period ends;

• Description/specification of, and justification for, equipment purchases, if any. Tangible, non-expendable, personal property having a useful life of more than one year and a unit acquisition cost of $5,000 or more per unit must be specifically identified; and

• Matching funds, leveraged funds, and in-kind services are not required for HVRP grants. However, if matching funds, leverage funds, or in-kind services are to be used, an identification of all sources of leveraged or matching funds and an explanation of the derivation of the value of matching/in-kind services must be provided. When resources such as matching funds, leveraged funds, and/or the value of in-kind contributions are made available, please describe in section B of the Budget Information Sheet.

(4) A completed Assurance and Certification signature page (Appendix C) (signed in blue ink) must be submitted;

(5) All applicants must submit evidence of satisfactory financial management capability, which must include recent (within the last 18 months) grant specific financial and/or audit statements (does not count towards the 75 page limitation). All successful grantees and sub-awardee(s) are required to utilize Generally Accepted Accounting Practices (GAAP), maintain a separate accounting for these grant funds, and have a checking account;

(6) All applicants must include, as a separate appendix, a list of all employment and training government grants and contracts that they have had in the past three (3) years, including grant/contract officer contact information. VETS reserves the right to have a DOL representative review and verify this data;

(7) A completed Survey on Ensuring Equal Opportunity for Applicants (Appendix F) must be provided.

3. Submission Dates and Times (Acceptable Methods of Submission)

The grant application package must be received at the designated place by the date and time specified or it will not be considered. Any application received at the Office of Procurement Services after 5 p.m. EDT, May 22, 2006, will not be considered unless it is received before the award is made and:

• It is determined by the Government that the late receipt was due solely to mishandling by the Government after receipt at the U.S. Department of Labor at the address indicated; or

• It was sent by registered or certified mail not later than the fifth calendar day before May 22, 2006; or

• It was sent by U.S. Postal Service Express Mail Next Day Service-Post Office to Addressee, not later than 5 p.m. at the place of mailing two (2) working days, excluding weekends and Federal holidays, prior to May 22, 2006.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore applicants should request that the postal clerk place a legible hand cancellation “bull's-eye” postmark on both the receipt and the envelope or wrapper. Applications cannot be accepted by e-mail or facsimile machine.

The only acceptable evidence to establish the date of mailing of a late application sent by U.S. Postal Service Express Mail Next Day Service-Post Office to Addressee is the date entered by the Post Office clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office. Applications sent by other delivery services, such as Federal Express, UPS, etc., will also be accepted.

All applicants are advised that U.S. mail delivery in the Washington, DC area has been erratic due to security concerns. All applicants must take this into consideration when preparing to meet the application deadline, as you assume the risk for ensuring a timely submission, that is, if, because of these mail problems, the Department does not receive an application or receives it too late to give proper consideration, even if it was timely mailed, the Department is not required to consider the application.

4. Intergovernmental Review

Not applicable.

5. Funding Restrictions

A. Applications requesting to serve urban areas that exceed $300,000 and applications requesting to serve non-urban areas that exceed $200,000 will be considered non-responsive and will not be evaluated.

B. There is a limit of one (1) application per submitting organization and physical location serving the same HVRP participant population. If two (2) original applications from the same organization for the same physical location serving the same HVRP participant population are submitted, the application with the later date will be considered as non-responsive. Please do not submit duplicate original grant applications as only one (1) grant application will be considered for funding purposes.

C. There will not be reimbursement of pre-award costs unless specifically agreed upon in writing by the Department of Labor.

D. Entities described in section 501(c)(4) of the Internal Revenue Code that engage in lobbying activities are not eligible to receive funds under this announcement because section 18 of the Lobbying Disclosure Act of 1995, Public Law No. 104-65, 109 Stat. 691, prohibits the award of Federal funds to these entities.

E. Limitations on Administrative and Indirect Costs

• Administrative costs, which consist of all direct and indirect costs associated with the supervision and management of the program, are limited to and may not exceed 20% of the total grant award.

• Indirect costs claimed by the applicant must be based on a Federally approved rate. A copy of the current negotiated approved and signed indirect cost negotiation agreement must be submitted with the application. Furthermore, indirect costs are considered a part of administrative costs for HVRP purposes and, therefore, may not exceed 20% of the total grant award.

• If the applicant does not presently have an approved indirect cost rate, a proposed rate with justification may be submitted. Successful applicants will be required to negotiate an acceptable and allowable rate within 90 days of grant award with the appropriate DOL Regional Office of Cost Determination or with the applicant's cognizant agency for indirect cost rates (See Office of Management and Budget Web site at http://www.whitehouse.gov/omb/grants/attach.html).

• Indirect cost rates traceable and trackable through the State Workforce Agency's Cost Accounting System represent an acceptable means of allocating costs to DOL and, therefore, can be approved for use in grants to State Workforce Agencies.

V. Application Review Information

1. Application Evaluation Criteria

Applications may receive up to 110 total points based on the following criteria:

A. Need for the project: 10 points. The applicant will document the need for this project, as demonstrated by: (i) The potential number or concentration of homeless individuals and homeless veterans in the proposed project area relative to other similar areas; (ii) the rates of poverty and unemployment in the proposed project area as determined by the census or other surveys; and (iii) the extent of the gaps in the local infrastructure to effectively address the employment barriers that characterize the target population.

B. Overall strategy to increase employment and retention in employment: 35 points [and up to 10 additional points (for a total of 45 points) if overall strategy includes an approach for addressing barriers to employment faced by chronically homeless veterans as described below.] The application must include a description of the approach to providing comprehensive employment and training services, including outreach, pre-enrollment assessment, job training, job development, obtaining employer commitments to hire, placement, and post-placement follow-up services. Applicants must address how they will target occupations that are locally in demand with career growth potential and that will provide wages to ensure self-sufficiency for the participant. Supportive services provided as part of the strategy of promoting job readiness and job retention must be indicated. The applicant must identify the local services and sources of training to be used for participants. At least 80% of participants must participate in training activities. A description of the relationship with other employment and training programs delivered through the One-Stop Career Center System must be specified. Applicants must indicate how the activities will be tailored or responsive to the needs of homeless veterans. A participant flow chart may be used to show the sequence and mix of services.

Additional Points: Up to an additional 10 points under this section will be awarded to grant proposals that focus some of their effort on addressing the barriers to employment faced by chronically homeless veterans. A veteran who is “chronically homeless” is an unaccompanied homeless individual with a disabling condition who has either been continuously homeless for a year or more, OR who has had at least four (4) episodes of homelessness in the past three (3) years. In order to be considered chronically homeless, a person must have been sleeping in a place not meant for human habitation (e.g., living on the streets) and/or in an emergency homeless shelter. A disabling condition is defined as a diagnosable substance use disorder, serious mental illness, developmental disability, or chronic physical illness or disability including the co-occurrence of two or more of these conditions. A disabling condition limits an individual's ability to work or perform one or more activities of daily living.

Note: The applicant must complete Appendix D, the Recommended Format for Planned Quarterly Technical Performance Goals, with proposed programmatic outcomes, including participants served, placement/entered employments and job retention.

C. Quality and extent of linkages with other providers of services to the homeless and to veterans: 20 points. The application must provide information on the quality and extent of the linkages this program will have with other providers of services to homeless veterans in the local community including faith-based and community organizations. For each service, the applicant must specify who the provider is, the source of funding (if known), and the type of linkages/referral system established or proposed. Describe, to the extent possible, how the project would be incorporated into the local community's continuum of care approach and the local community's ten (10) year plan to end homelessness, if applicable (see Interagency Council on Homelessness Web page at http://www.ich.gov for additional information).

Describe how the proposed project links to the appropriate State Workforce Agency and One-Stop Career Center(s) including coordination and collaboration with DVOP/LVER and other One-Stop Career Center staff, HUD, HHS, DVA, and other local community-based programs and the services that will be provided as necessary on behalf of the homeless veteran participants to be served.

D. Demonstrated capability in providing required program services, including programmatic reporting and participant tracking: 25 points. The applicant must describe its relevant prior experience in operating employment and training programs and providing services to participants similar to those that are proposed under this solicitation. Specific outcomes previously achieved by the applicant must be described, such as number of enrollments, number of participants that were placed into employment, cost per placement into employment, benefits secured, network coalitions, etc. The applicant must also address its capacity for timely startup of the program, programmatic reporting, and participant tracking. The applicant should describe its staff experience and ability to manage the administrative, programmatic, and financial aspects of a grant program. Include a recent (within the last 18 months) grant specific financial statement and/or audit (does not count towards the 75 page limitation). Final or most recent financial and technical performance reports for other relevant programs must be submitted, if applicable. Because prior HVRP experience is not a requirement for this grant, applicants may have other similar type programmatic performance reports to submit as evidence of experience in operating other employment and training type programs.

E. Quality of overall housing strategy: 10 points. The application must demonstrate how the applicant proposes to obtain or access housing resources for participants in the program and participants entering into the labor force. This discussion should specify the provisions made to access temporary, transitional, and permanent housing for participants through various community resources such as HUD, DVA Grant and Per Diem Program, and other locally funded housing programs. HVRP funds may not be used for housing purposes or purchasing or leasing of vehicles.

2. Review and Selection Process

Grant applications will be reviewed by a Department of Labor grant review panel using the point scoring system specified above in Section V(1). The grant review panel will assign a score after objectively and carefully evaluating each responsive grant application and all responsive grant applications will be ranked based on this score. The ranking will be the primary basis to identify applicants as potential grantees. The grant review panel will establish a competitive range, based upon the proposal evaluation, for the purpose of selecting qualified applicants. For this solicitation, the minimum acceptable score is 70.

The grant review panel, the Assistant Secretary for Veterans' Employment and Training (ASVET), and Grant Officer may further evaluate grant applications deemed within the competitive range in order to compare goals of other grant applications deemed within the competitive range. The grant review panel, the ASVET, and the Grant Officer may consider any information that comes to their attention, including past performance, and will make a final selection determination based on what is most advantageous to the Government, considering factors such as grant review panel findings, geographical presence of the applicants, existing grants, or the areas to be served and the best value to the government, cost, and other factors considered. The grant review panel's conclusions are advisory in nature and not binding on the Grant Officer. However, if no application receives at least that minimum score, the Grant Officer may either designate no grantee or may designate an entity based on demonstrated capability to provide the best services to the client population. Further, the Grant Officer reserves the right to select applicants with scores lower than the minimum or lower than the competing applications, if such a selection would, in the Grant Officer's judgment, result in the most effective and appropriate combination of services to grant beneficiaries.

The grant review panel will screen all applicant cost proposals to ensure expenses are allocable, allowable, and reasonable. Determinations of allowable costs will be made in accordance with the applicable Federal cost principles, e.g. Non-Profit Organizations—OMB Circular A-122. Unallowable costs are those charges to a grant that a grantor agency or its representatives determined not to be allowed in accordance with the applicable Federal Cost Principles or other conditions contained in the grant. If the grant review panel, ASVET, and Grant Officer conclude that the cost proposal contains an expense(s) that is not allocable, allowable, and/or reasonable, the application may be considered ineligible for funding. Further, the grant review panel, the ASVET, and the Grant Officer will consider applicant information concerning the proposed cost per placement, percentage of participants placed into unsubsidized employment, average wage at placement, and 90- and 180-day retention in employment percentages. The national average cost per placement for HVRP for last year was $2,200. The Government reserves the right to ask the applicant for clarification on any aspect of a grant application. The Grant Officer may consult with the Department of Labor staff on any potential grantee and/or sub-awardee(s) concerns. The Grant Officer's determination for award under SGA # 06-05 is the final agency action. The submission of the same proposal from any prior year HVRP competition does not guarantee an award under this Solicitation.

3. Anticipated Announcement and Award Dates

Announcement of this award is expected to occur by June 20, 2006. The grant agreement will be awarded by no later than July 1, 2006.

VI. Award Administration Information

1. Award Notices

A. The Notice of Award signed by the Grant Officer is the authorizing document and will be provided through postal mail and/or by electronic means to the authorized representative listed on the SF-424 Grant Application. Notice that an organization has been selected as a grant recipient does not constitute final approval of the grant application as submitted. Before the actual grant award, the Grant Officer and/or the Grant Officer's Technical Representative may enter into negotiations concerning such items as program components, funding levels, and administrative systems. If the negotiations do not result in an acceptable submittal, the Grant Officer reserves the right to terminate the negotiation and decline to fund the proposal.

B. A post-award conference will be held for those grantees awarded FY 2006 HVRP funds through this competition. The post-award conference is expected to be held in August 2006 and up to two (2) grant recipient representatives must be present. The site of the post-award conference has not yet been determined; however, for planning and budgeting purposes, applicants should allot four (4) days and use Washington, DC as the conference site. The post-award conference will focus on providing information and assistance on reporting, record keeping, grant requirements, and also include networking opportunities to learn of best practices from more experienced and successful grantees and sub-awardee(s). Costs associated with attending this conference for up to two (2) grantee representatives will be allowed as long as they are incurred in accordance with Federal travel regulations. Such costs must be charged as administrative costs and reflected in the proposed budget.

2. Administrative and National Policy Requirements

All grantees and sub-awardees must comply with the provisions of Title 38 U.S.C. and its regulations, as applicable.

A. Administrative Program Requirements

All grantees and sub-awardees, including faith-based organizations, will be subject to applicable Federal laws (including provisions of appropriations law), regulations, and the applicable Office of Management and Budget (OMB) Circulars. The grant(s) awarded under this SGA will be subject to the following administrative standards and provisions, if applicable:

• 29 CFR part 2—General Participation in Department of Labor Programs by Faith-Based and Community Organizations; Equal Treatment of All Department of Labor Program Participants and Beneficiaries.

• 29 CFR part 30—Equal Employment Opportunity in Apprenticeship and Training.

• 29 CFR part 31—Nondiscrimination in Federally Assisted Programs of the Department of Labor—Effectuation of Title VI of the Civil Rights Act of 1964.

• 29 CFR part 32—Nondiscrimination on the Basis of Handicap in Programs or Activities Receiving Federal Financial Assistance.

• 29 CFR part 33—Enforcement of Nondiscrimination on the Basis of Handicap in Programs or Activities Conducted by the Department of Labor.

• 29 CFR part 35—Nondiscrimination on the Basis of Age in Programs and Activities Receiving Federal Financial Assistance from the Department of Labor.

• 29 CFR part 36—Nondiscrimination on the Basis of Sex in Education Programs or Activities Receiving Federal Assistance.

• 29 CFR part 37—Implementation of the Nondiscrimination and Equal Opportunity Provisions of the Workforce Investment Act of 1998.

• 29 CFR part 93—New Restrictions on Lobbying.

• 29 CFR part 94—Government-wide Requirements for Drug-Free Workplace (Financial Assistance).

• 29 CFR part 95—Grants and Agreements with Institutions of Higher Education, Hospitals, and other Non-Profit Organizations, and with Commercial Organizations.

• 29 CFR part 96—Audit Requirements for Grants, Contracts and Other Agreements.

• 29 CFR part 97—Uniform Administrative Requirements for Grants and Cooperative Agreements to State and Local Governments.

• 29 CFR part 98—Government-wide Debarment and Suspension (Non procurement).

• 29 CFR part 99—Audit of States, Local Governments, and Non-Profit Organizations.

• Applicable cost principles and audit requirements under OMB Circulars A-21, A-87, A-110, A-122, A-133, and 48 CFR part 31.

• In accordance with section 18 of the Lobbying Disclosure Act of 1995, Public Law 104-65 (2 U.S.C. 1611), non-profit entities incorporated under 501(c)(4) that engage in lobbying activities are not eligible to receive Federal funds and grants.

• 38 U.S.C. 4215—Requirements for priority of service for veterans in all Department of Labor training programs.

3. Electronic Reporting

All HVRP grantees will enter data and electronically attach their quarterly technical performance and financial status reports, success stories, etc. into the U.S. Department of Labor, Veterans' Employment and Training Service, Outcomes and Performance Accountability Reporting (VOPAR) System according to the reporting requirements and timetables described below.

A. Quarterly Financial Reports

No later than 30 days after the end of each Federal fiscal quarter, the grantee must report outlays, program income, and other financial information on a Federal fiscal quarterly basis using SF-269, Financial Status Report, Long Form, and submit a copy of the HHS/PMS 272 draw down report. These reports must cite the assigned grant number.

B. Quarterly Program Reports

No later than 30 days after the end of each Federal fiscal quarter, grantees also must submit a Quarterly Technical Narrative Performance Report that contains the following:

(1) A comparison of actual accomplishments to planned goals for the reporting period and any findings related to monitoring efforts;

(2) An explanation for variances of plus or minus 15% of planned program and/or expenditure goals, to include: identification of corrective action that will be taken to meet the planned goals, if required; and a timetable for accomplishment of the corrective action.

C. 90-Day Final Performance Report

No later than 120 days after the grant performance expiration date, the grantee must submit a final report showing results and performance as of the 90th day after the grant period, and containing the following:

(1) Final Financial Status Report SF-269 Long Form (that zeros out all unliquidated obligations); and

(2) Final Technical Performance Report comparing goals vs. actual performance levels.

D. 180-Day Follow-Up Report/Longitudinal Survey

No later than 210 days after the grant performance expiration date, the grantee must submit a Follow-Up Report/Longitudinal Survey showing results and performance as of the 180th day after the grant expiration date, and containing the following:

(1) Final Financial Status Report SF-269 Long Form (if not previously submitted); and

(2) 180-Day Follow-Up Report/Longitudinal Survey identifying:

(a) The total combined (directed/assisted) number of veterans placed into employment during the entire grant period;

(b) The number of veterans still employed after the 90- and 180-day follow-up period;

(c) If the veterans are still employed at the same or similar job, and if not, what are the reason(s);

(d) Whether training received was applicable to jobs held;

(e) Wages at placement and at the 90- and 180-day follow-up periods;

(f) An explanation of why those veterans placed during the grant, but not employed at the end of the follow-up period, are not so employed; and

(g) Any recommendations to improve the program.

Agency Contact

All questions regarding this SGA should be directed to Cassandra Mitchell, e-mail address: mitchell.cassandra@dol.gov, at tel: (202) 693-4570 (note this is not a toll-free number), or Eric Vogt, e-mail address vogt.eric@dol.gov, also at tel. (202) 693-4570. To obtain further information on the Homeless Veterans' Reintegration Program of the U.S. Department of Labor, visit the USDOL Web site of the Veterans' Employment and Training Service at http://www.dol.gov/vets.

VII. Other Information

A. Acknowledgement of USDOL Funding

1. Printed Materials: In all circumstances, the following shall be displayed on printed materials prepared by the grantee while in receipt of DOL grant funding: “Preparation of this item was funded by the United States Department of Labor under Grant No. [insert the appropriate grant number].”

• All printed materials must also include the following notice: “This document does not necessarily reflect the views or policies of the U.S. Department of Labor, nor does mention of trade names, commercial products, or organizations imply endorsement by the U.S. Government.”

2. Public references to grant: When issuing statements, press releases, requests for proposals, bid solicitations, and other documents describing projects or programs funded in whole or in part with Federal money, all grantees receiving Federal funds must clearly state:

• The percentage of the total costs of the program or project, which will be financed with Federal money;

• The dollar amount of Federal financial assistance for the project or program; and

• The percentage and dollar amount of the total costs of the project or program that will be financed by non-governmental sources.

B. Use of USDOL Logo

In consultation with USDOL, VETS, the grantee(s) must acknowledge USDOL's role as described below:

• The USDOL logo may be applied to USDOL-funded material prepared for distribution, including posters, videos, pamphlets, research documents, national survey results, impact evaluations, best practice reports, and other publications of global interest. The grantee(s) must consult with USDOL on whether the logo may be used on any such items prior to final draft or final preparation for distribution. In no event shall the USDOL logo be placed on any item until USDOL has given the Grantee permission to use the logo on the item.

• All documents must include the following notice: “This documentation does not necessarily reflect the views or policies of the U.S. Department of Labor, nor does mention of trade names, commercial products, or organizations imply endorsement by the U.S. Government.”

Resources for the Applicant: The Department of Labor maintains a number of web-based resources that may be of assistance to applicants. The Web page for the USDOL VETS at http://www.dol.gov/vets/programs/main.htm is a valuable source of information including the program highlights and brochures, glossary of terms, frequently used acronyms, general and special grant provisions, power point presentations on how to apply for HVRP funding, On-Site Monitoring Visits, etc. The Interagency Council on Homeless at Web page http://www.ich.gov has information from various departments that assist homeless persons including updated information on local community ten (10) year plans to end homelessness and continuum of care plans. America's Service Locator Web page at http://www.servicelocator.org provides a directory of our nation's One-Stop Career Centers and http://www.workforce3one.org is another Department of Labor resource site. The National Association of Workforce Boards maintains a Web page at http://www.nawb.org/asp/wibdir.asp that contains contact information for the State and local Workforce Investment Boards. Applicants may also review “VETS” Guide to Competitive and Discretionary Grants” located at Web page http://www.dol.gov/vets/grants/Final_VETS_Guide-linked.pdf. For a basic understanding of the grants process and basic responsibilities of receiving Federal grant support, please see “Guidance for Faith-Based and Community Organizations on Partnering with the Federal Government” at Web pages http://www.whitehouse.gov/government/fbci and http://www.dol.gov/cfbci. Also, the National Coalition for Homeless Veterans Web page at http://www.nchv.org.

Signed at Washington, DC this 11th day of April, 2006.
Eric Vogt,
Grant Officer.

Appendices: (Located on U.S. Department of Labor, Veterans' Employment and Training Service Web page http://www.dol.gov/vets follow link for the applicable SGA listed under announcements.)

Appendix A: Application for Federal Assistance SF-424

Appendix B: Budget Information Sheet SF-424A

Appendix C: Assurances and Certifications Signature Page

Appendix D: Recommended Format for Planned Quarterly Technical Performance Goals

Appendix E: Direct Cost Descriptions for Applicants and Sub-Applicants

Appendix F: Survey on Ensuring Equal Opportunity for Applicants

Appendix G: List of 75 Largest Cities Nationwide

[FR Doc. 06-3626 Filed 4-19-06; 8:45 am]

BILLING CODE 4510-79-P